DEPARTMENT OF TRANSPORTATION

Federal Transit Administration

Over-the-Road Bus Accessibility Grant Program

AGENCY: Federal Transit Administration (FTA), DOT.

ACTION: Announcement of Project Selections.

SUMMARY: The U.S. Department of Transportation (DOT) Federal Transit Administration (FTA) announces the selection of projects to be funded under Fiscal Year (FY) 2012 appropriations for the Over-the-Road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in the Federal Register on September 24, 1998. Under the rule, all new buses obtained by large fixed-route carriers after October 30, 2000, must be accessible with wheelchair lifts and tie downs that allow passengers to ride in their own wheelchairs. October 29, 2012 was the deadline whereby the fixed-route bus fleets of large carriers must be 100 percent accessible.

FOR FURTHER INFORMATION CONTACT: Successful applicants should contact the appropriate FTA Regional Office for grant-specific issues; or Élan Flippin, Office of Program Management, 202-366-3800, for general information about the OTRB Program. Contact information for FTA Regional Offices can be found at http://www.fta.dot.gov/. For information related to the OTRB accessibility rule, contact Peter Chandler, Federal Motor Carrier Safety Administration, 202-366-5763.

SUPPLEMENTARY INFORMATION: A total of $8.8 million was made available for the program in FY 2012: $6.6 million for intercity fixed-route providers and $2.2 million for all other providers, such as commuter, charter, and tour operators. A total of 114 applicants requested $34.5 million: $23.2 million was requested by intercity-fixed route providers, and $11.3 million was requested by other providers. A total of 77 projects were selected for funding. Project selections were made on a discretionary basis, based on each applicant's responsiveness to statutory project selection criteria published in the April 30, 2012 Notice of Funding Availability.

Project Implementation: Due to the high demand for the funds available, most successful applicants received less funding than they requested. The selected projects will provide funding for the incremental cost of adding at least one new lift to vehicles, retrofitting vehicles, and providing training not to exceed $2,250. Training was only made available to providers of “Other” service and is listed in Table II where approved.

Grantees selected for competitive discretionary funding should work with their FTA regional office to finalize the electronic grant application in FTA's Transportation Electronic Awards Management System (TEAM) for the projects identified in Tables I and II. A discretionary project identification number has been assigned to each project for tracking purposes and must be used in the TEAM application. Awardees who are new to FTA should contact their regional office immediately for guidance about becoming an FTA grantee. Regional office contact information can be found at http://www.fta.dot.gov/. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the Special Warranty Provisions of the Department of Labor Guidelines “Section 5333(b), Federal Transit Law” at 29 CFR 215.7. The grantee must comply with all applicable Federal statutes, regulations, executive orders, FTA circulars, and other Federal requirements in carrying out the project supported by the FTA grant. This is the final year for discretionary awards under the Over-the-Road Bus program as the program was repealed under the Moving Ahead for Progress in the 21st Century Act, signed by President Obama on July 6, 2012, and effective on October 1, 2012. Funds allocated in this announcement must be obligated in a grant by September 30, 2015.

Issued in Washington, DC, this 29th day of November, 2012.
Peter Rogoff,
Administrator.

BILLING CODE 4910-57-P

[FR Doc. 2012-29272 Filed 12-3-12; 8:45 am]

BILLING CODE 4910-57-C